DEPARTMENT OF ENERGY

Federal Energy Regulatory Commission

[Docket No. RP97-81-006]

Kinder Morgan Interstate Gas Transmission LLC; Notice of Negotiated Rate

April 4, 2001.

Take notice that on March 29, 2001, Kinder Morgan Interstate Gas Transmission LLC (KMIGT) tendered for filing as part of its FERC Gas Tariff, Fourth Revised Volume No. 1-A following revised tariff sheets, to be effective April 1, 2001:

First Revised Sheet No. 4G

Original Sheet No. 4H

Original Sheet No. 41

KMIGT states that the above-referenced tariff sheets reflect three separate negotiated rate contracts effective April 1, 2001. The tariff sheets are being filed pursuant to Fourth Revised Volume No. 1-A, section 36 of KMIGT's FERC Gas Tariff, and the procedures proscribed by the Commission in its December 31, 1996 “Order Accepting Tariff Filing Subject to Conditions”, in Docket No. RP97-81 (77 FERC ¶ 61,350) and the Commission's Letter Orders dated March 28, 1997 and November 30, 2000 in Docket Nos. RP97-81-001, and RP01-70-000, respectively.

KMIGT states that a copy of this filing has been served upon all parties to this proceeding, KMIGT's customers and affected state commissions.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-8785 Filed 4-9-01; 8:45 am]

BILLING CODE 6717-01-M